DEPARTMENT OF JUSTICE

Notice of Lodging of Consent Decree Under the Comprehensive Environmental Response, Compensation, and Liability Act

Notice is hereby given that on July 26, 2007, a proposed Consent Decree in United States v. Commonwealth Edison Co., et al., Case No. 07-CV-03799 (“Commonwealth Edison”), was lodged with the United States District Court for the Northern District of Illinois.

In Commonwealth Edison, the United States is seeking recovery of approximately $4.5 million in response costs incurred in connection with a removal action in 2002 at the Johns Manville Superfund Site, Site 2 (the “Site”), in Waukegan, Illinois. The proposed Consent Decree involves the four defendants in the case—the Commonwealth Edison Company; Johns Manville; Midwest Generation, LLC; and the City of Waukegan (collectively, the “Settling Defendants”)—as well as the Department of Defense (“DOD”). Under the proposed Consent Decree, the Settling Defendants would pay $3.014 million, and DOD would pay $741,000. In exchange, the Settling Defendants would receive contribution protection and a covenant by the United States not to sue them for response costs incurred in connection with the Site. DOD would receive contribution protection and a covenant by the United States Environmental Protection Agency not to take administrative action against it for response costs incurred in connection with the Site.

For a period of 30 days from the date of this publication, the Department of Justice will receive comments relating to the proposed Consent Decree. Comments should either be addressed to the Assistant Attorney General, Environment and Natural Resources Division, and should refer to United States v. Commonwealth Edison Co., et al., D.J. Ref. 90-11-3-08425. Comments should either be e-mailed to pubcomment-ees.enrd@usdoj.gov or mailed to P.O. Box 7611, Washington, DC 20044-7611.

The proposed Consent Decree may be examined at the Office of the United States Attorney, 219 South Dearborn Street, Chicago, IL 60604-1700, and at the U.S. Environmental Protection Agency, Region 5, 77 West Jackson Boulevard, Chicago, IL 60604-3590. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611, or by e-mailing or faxing a request to Tonia Fleetwood (tonia.fleetwood@usdoj.gov, fax number (202) 514-0097, phone confirmation number (202) 514-1547). In requesting a copy from the Consent Decree Library, please enclose a check in the amount of $6.25 (25 cents per page reproduction cost) payable to the United States Treasury. If a request for a copy of the proposed Consent Decree is made by fax or e-mail, please forward a check in the aforementioned amount to the Consent Decree Library at the address noted above.

William Brighton,
Assistant Chief, Environmental Enforcement Section, Environment and Natural Resources Division.

[FR Doc. 07-3737 Filed 7-31-07; 8:45 am]

BILLING CODE 4410-15-M